OFFICE OF THE UNITED STATES TRADE REPRESENTATIVE

Special 301 Report: Identification of Countries That Deny Adequate Protection, or Market Access, for Intellectual Property Rights Under Section 182 of the Trade Act of 1974

AGENCY: Office of the United States Trade Representative.

ACTION: Notice.

SUMMARY: Notice is hereby given that the United States Trade Representative (USTR) has submitted its 2007 “Special 301 Report,” an annual report on the identification of those foreign countries that deny adequate and effective protection of intellectual property rights or deny fair and equitable market access to United States persons that rely upon intellectual property protection, to the Committee on Finance of the United States Senate and the Committee on Ways and Means of the United States House of Representatives, pursuant to section 182 of the Trade Act of 1974, as amended (the Trade Act) (19 U.S.C. 2242).

DATES: The 2007 Special 301 Report was released on April 30, 2007. The 2007 Special 301 Report is available on USTR's Web site at http://www.ustr.gov.

ADDRESSES: Office of the United States Trade Representative, 600 17th Street, NW., Washington, DC 20508.

FOR FURTHER INFORMATION CONTACT: Jennifer Choe Groves, Director for Intellectual Property and Chair of the Special 301 Committee at (202) 395-4510.

SUPPLEMENTARY INFORMATION: Pursuant to Section 182 of the Trade Act of 1974, as amended by the Omnibus Trade and Competitiveness Act of 1988 and the Uruguay Round Agreements Act (enacted in 1994), under Special 301 provisions, USTR must identify those countries that deny adequate and effective protection for intellectual property rights (IPR) or deny fair and equitable market access for persons that rely on intellectual property protection. Countries that have the most onerous or egregious acts, policies, or practices and whose acts, policies, or practices have the greatest adverse impact (actual or potential) on the relevant U.S. products must be designated as “Priority Foreign Countries.”

Priority Foreign Countries are potentially subject to an investigation under the Section 301 provisions of the Trade Act of 1974. USTR may not designate a country as a Priority Foreign Country if it is entering into good faith negotiations or making significant progress in bilateral or multilateral negotiations to provide adequate and effective protection of IPR.

USTR must decide whether to identify countries within 30 days after issuance of the annual National Trade Estimate Report. In addition, USTR may identify a trading partner as a Priority Foreign Country or remove such identification whenever warranted.

USTR has created a “Priority Watch List” and “Watch List” under Special 301 provisions. Placement of a trading partner on the Priority Watch List or Watch List indicates that particular problems exist in that country with respect to IPR protection, enforcement, or market access for persons relying on intellectual property. Countries placed on the Priority Watch List are the focus of increased bilateral attention concerning the problem areas.

Additionally, under Section 306, USTR monitors a country's compliance with bilateral intellectual property agreements that are the basis for resolving an investigation under Section 301. USTR may apply sanctions if a country fails to satisfactorily implement an agreement.

The interagency Trade Policy Staff Committee that advises USTR on the implementation of Special 301 obtains information from and holds consultations with affected industry groups and other private sector representatives, foreign governments, Congressional leaders, and interagency coordination within the United States Government, among other sources.

The Special 301 Report is available on USTR's Web site at http://www.ustr.gov.

Following extensive research and analysis, the USTR has designated 43 countries in the categories of Priority Watch List, Watch List, and/or Section 306 Monitoring status. The Report affirms the Administration's continuing commitment to address weak IPR protection and enforcement, particularly in Russia and China.

With respect to Russia, the Special 301 Report describes the Bilateral Market Access Agreement between the United States and Russia, concluded in November 2006, which includes a letter setting out important commitments that will strengthen IPR protection and enforcement in Russia. The Report continues heightened scrutiny of Russia by maintaining Russia on the Priority Watch List and announcing plans for an Out-of-Cycle Review in 2007.

With respect to China, the Special 301 Report describes the United States' plan to maintain China on the Priority Watch List, to continue Section 306 Monitoring, and to pursue World Trade Organization dispute settlement with China on a number of IPR protection and enforcement issues. In addition, the Report contains a section entitled “Special Provincial Review of China,” in which the Administration reports on IPR protection and enforcement at China's provincial level following an unprecedented review conducted over the past year.

USTR again designates Paraguay for Section 306 monitoring to ensure its compliance with the commitments made to the United States under bilateral intellectual property agreements.

In the Report, USTR also announces the placement of 12 trading partners on the Priority Watch List: China, Russia, Argentina, Chile, Egypt, India, Israel, Lebanon, Thailand, Turkey, Ukraine, and Venezuela. In addition, USTR places 30 trading partners on the Watch List: Belarus, Belize, Bolivia, Brazil, Canada, Colombia, Costa Rica, Dominican Republic, Ecuador, Guatemala, Hungary, Indonesia, Italy, Jamaica, Kuwait, Lithuania, Malaysia, Mexico, Pakistan, Peru, Philippines, Poland, Republic of Korea, Romania, Saudi Arabia, Taiwan, Tajikistan, Turkmenistan, Uzbekistan, and Vietnam. The Report announces that several countries are being removed from the Special 301 list completely: Bahamas, Bulgaria, Croatia, European Union, and Latvia. Finally, the Report notes that USTR will conduct Out-of-Cycle Reviews of Brazil, the Czech Republic, Pakistan, and Russia.

Victoria Espinel,
Assistant U.S. Trade Representative for Intellectual Property and Innovation.

[FR Doc. E7-8496 Filed 5-3-07; 8:45 am]

BILLING CODE 3190-W7-P